ENVIRONMENTAL PROTECTION AGENCY

40 CFR Part 300

[FRL-8188-7]

National Oil and Hazardous Substance Pollution Contingency Plan; National Priorities List

AGENCY: Environmental Protection Agency (EPA).

ACTION: Technical correction of final partial deletion of the Motor Wheel Disposal Superfund Site from the National Priorities List.

SUMMARY: On June 22, 2000 “65 FR 38806), EPA published a (Notice of intent to delete 3.45 acres of land from the Motor Wheel Disposal site from the National Priorities List; request for comments”, and on June 22, 2000 (65 FR 38774), a “Direct final notice of deletion for 3.45 acres of land for the Motor Wheel Superfund Site from the National Priorities List (NPL).” The EPA is publishing this Technical Correction to the June 22, 2000 final notice of deletion due to errors that were published in that notice and in the National Priorities List at 40 CFR part 300, Appendix B. After review of the final notice of deletion and the National Priorities List, EPA is publishing this Technical Correction today to change the word “removing” in the June 22, 2000 Direct final notice of deletion to the word “revising” and to amend 40 CFR part 300, Appendix B by adding the Motor Wheel, Lansing, Michigan, and inserting a “P” in the Notes(a) column for the Motor Wheel Site, Lansing, Michigan. EPA will place a copy of the final partial deletion package in the site repositories.

DATES: Effective Date: This Technical Correction of the direct final action is effective as of June 23, 2006

ADDRESSES: Comprehensive information on the Site, as well as the comments that were received during the comment period are available at: Robert Paulson, Community Involvement Coordinator, U.S. EPA , P19J, 77 W. Jackson, Chicago, IL, (312) 886-0272 or 1-800-621-8431.

FOR FURTHER INFORMATION CONTACT: Gladys Beard, State NPL Deletion Process Manager, U.S. EPA (SR-6J), 77 W. Jackson, Chicago, IL 60604, (312) 886-7253 or 1-800-621-8431.

SUPPLEMENTARY INFORMATION: Information Repositories: Repositories have been established to provide detailed information concerning this decision at the following address: U.S. EPA Region V Library, 77 W. Jackson, Chicago, IL 60604, (312) 353-5821, Monday through Friday 8 a.m. to 4 p.m.; The Lansing Public Library, Reference Section, 401 Capital Ave., Lansing, MI 48933.

List of Subjects in 40 CFR Part 300

Environmental protection, Air pollution control, Chemicals, Hazardous substances, Hazardous waste, Intergovernmental relations, Penalties, Reporting and recordkeeping requirements, Superfund, Water pollution control, Water supply.

Dated: June 15, 2006.
Bharat Mathur,
Acting Regional Administrator, EPA Region V.

For the reasons stated in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to Part 300 is amended under Michigan “MI” by revising the entry for “Motor Wheel” to read as follows:

Appendix B to Part 300—National Priorities List

Table 1.—General Superfund Section
State | Sitename | City/county | (Notes) a
* * * * * * *
MI | Motor Wheel | Lansing | P
* * * * * * *
a * * *.
P=Sites with partial deletion(s).

* * * * *

[FR Doc. E6-9950 Filed 6-22-06; 8:45 am]

BILLING CODE 6560-50-P